EXPORT-IMPORT BANK OF THE UNITED STATES

Notice of Open Meeting of the Advisory Committee of the Export-Import Bank of the United States (Ex-Im Bank)

SUMMARY: The Advisory Committee was established by Public Law 98-181, November 30, 1983, to advise the Export-Import Bank on its programs and to provide comments for inclusion in the report on competitiveness of the Export-Import Bank of the United States to Congress.

Time and Place: Wednesday, January 20, 2016 from 9:30 a.m. until 3:30 p.m. A break for lunch will be at the expense of the attendee. Security processing will be necessary for reentry into the building. The meeting will be held at Ex-Im Bank in the Main Conference Room—11th Floor, 811 Vermont Avenue NW., Washington, DC 20571.

Agenda: Agenda items include updates for the Advisory Committee members regarding: 2015 Reauthorization Law, EXIMs business and pipeline, and EXIMs report on competitiveness to Congress.

Public Participation: The meeting will be open to public participation, and 10 minutes will be set aside for oral questions or comments. Members of the public may also file written statement(s) before or after the meeting. If you plan to attend, a photo ID must be presented at the guard's desk as part of the clearance process into the building, you may contact Tia Pitt at tia.pitt@exim.gov placed on an attendee list. If any person wishes auxiliary aids (such as a sign language interpreter) or other special accommodations, please email Tia Pitt at tia.pitt@exim.gov by January 14, 2016.

Members of the Press: For members of the Press planning to attend the meeting, a photo ID must be presented at the guard's desk as part of the clearance process into the building please email Niki Shepperd at niki.shepperd@exim.gov to be placed on an attendee list.

Further Information: For further information, contact Tia Pitt, 811 Vermont Ave. NW., Washington, DC 20571, at tia.pitt@exim.gov.

Lloyd Ellis,
Program Specialist, Office of the General Counsel.

[FR Doc. 2016-00281 Filed 1-8-16; 8:45 am]

BILLING CODE 6690-01-P